OFFICE OF SCIENCE AND TECHNOLOGY POLICY

National Science and Technology Council; National Space Weather Strategy

ACTION: Notice for public comment.

SUMMARY: The National Science and Technology Council; Committee on Environment, Natural Resources, and Sustainability; Subcommittee on Disaster Reduction requests public comments on the draft 2015 National Space Weather Strategy: http://www.dhs.gov/national-space-weather-strategy.

DATES: Responses must be received by May 29, 2015 to be considered.

ADDRESSES: You may submit comments by any of the following methods:

• Email: spaceweather@ostp.gov. Include [National Space Weather Strategy] in the subject line of the message.

• Fax: (202) 456-6071, Attn: William Murtagh.

• Mail: Attn: William Murtagh, Office of Science and Technology Policy, Eisenhower Executive Office Building, 1650 Pennsylvania Ave. NW., Washington, DC 20504.

Instructions: Response to this request for public comment is voluntary. Responses exceeding 500 words will not be considered; please reference page and line numbers in your response, as appropriate. Please be aware that your comments may be posted online. The Office of Science and Technology Policy (OSTP) therefore requests that no business proprietary information, copyrighted information, confidential, or personally identifiable information be submitted in response to this request. Please note that the U.S. Government will not pay for response preparation or for the use of any information contained in the response.

FOR FURTHER INFORMATION CONTACT: William Murtagh, 202-456-4444, wmurtagh@ostp.eop.gov, OSTP.

SUPPLEMENTARY INFORMATION: Space weather refers to the dynamic conditions of the space environment that arise from interactions with emissions from the sun, including solar flares, solar energetic particles, and coronal mass ejections. These emissions can affect Earth and its surrounding space, potentially causing disruption to electric power transmission; satellite, aircraft, and spacecraft operations; telecommunications; position, navigation, timing services; and other technology and infrastructure. Given the growing importance and reliance of the Nation on these services and infrastructures, it is critical that the Nation prepare for the effects of space weather events.

In November 2014, the Space Weather Operations, Research, and Mitigation (SWORM) Task Force was established by the National Science and Technology Council (NSTC); Committee on Environment, Natural Resources, and Sustainability; Subcommittee on Disaster Reduction (SDR). The SWORM Charter directed the Task Force to develop a National Space Weather Strategy (NSWS) that will articulate high-level strategic goals for enhancing National preparedness to space weather events. This notice solicits public input to inform the development of this strategy.

Ted Wackler,
Deputy Chief of Staff and Assistant Director.

[FR Doc. 2015-10113 Filed 4-29-15; 8:45 am]

BILLING CODE 3270-F5-P